DEPARTMENT OF ENERGY

Federal Energy Regulatory Commission

[Docket Nos. CP17-178-000]

Notice of Anticipated Schedule of Final Order for the Alaska Gasline Development Corporation Alaska LNG Project

On April 17, 2017, Alaska Gasline Development Corporation filed an application in Docket No. CP17-178-000, pursuant to section 3 of the Natural Gas Act and Part 153 of the Commission's regulations, for authorization to site, construct, and operate a new liquefied natural gas (LNG) export terminal and associated facilities on the eastern shore of Cook Inlet in the Nikiski area of the Kenai Peninsula in Alaska, and to construct approximately 871 miles of natural gas pipeline and associated facilities, all within the State of Alaska. The proposed project, known as the Alaska LNG (Project), would liquefy and export up to 20.0 million metric tons per annum of LNG.

In accordance with Title 41 of the Fixing America's Surface Transportation Act, enacted on December 4, 2015, agencies are to publish completion dates for all federal environmental reviews and authorizations. This notice identifies the Commission's anticipated schedule for issuance of the final order for the Project, which is based on the anticipated date of issuance of the final Environmental Impact Statement. Accordingly, we currently anticipate issuing a final order in the Project no later than:

Issuance of Final Order—February 6, 2020

If a schedule change becomes necessary for the final order, an additional notice will be provided so that interested parties and government agencies are kept informed of the Project's progress.

Dated: August 31, 2018.
Nathaniel J. Davis, Sr.,
Deputy Secretary.

[FR Doc. 2018-19396 Filed 9-6-18; 8:45 am]

BILLING CODE 6717-01-P